DEPARTMENT OF TRANSPORTATION

Coast Guard

[USCG 2000-7221]

Information Collection Under Review by the Office of Management and Budget (OMB): OMB Control Numbers 2115-0578, 2115-0592, 2115-0625, 2115-0563, 2115-0542, 2115-0135, 2115-0624, and 2115-0106

AGENCY: Coast Guard, DOT.

ACTION: Request for comments.

SUMMARY: In compliance with the Paperwork Reduction Act of 1995, this request for comments announces that the Coast Guard has forwarded eight Information Collection Reports (ICRs) abstracted below to OMB for review and comment. Our ICRs describe the information that we seek to collect from the public. Review and comment by OMB ensure that we impose only paperwork burdens commensurate with our performance of duties.

DATES: Please submit comments on or before August 30, 2000.

ADDRESSES: Please send comments to both: (1) the Docket Management System (DMS), U.S. Department of Transportation (DOT), room PL-401, 400 Seventh Street S.W., Washington, DC 20590-0001, and (2) the Office of Information and Regulatory Affairs (OIRA), Office of Management and Budget (OMB), 725 17th Street N.W., Washington, DC 20503, to the attention of the Desk Officer for the USCG.

Copies of the complete ICRs are available for inspection and copying in public docket USCG 2000-7221 of the Docket Management Facility between 10 a.m. and 5 p.m., Monday through Friday, except Federal holidays; for inspection and printing on the internet at http://dms.dot.gov; and for inspection from the Commandant (G-SII-2), U.S. Coast Guard, room 6106, 2100 Second Street S.W., Washington, DC, between 10 a.m. and 4 p.m., Monday through Friday, except Federal holidays.

FOR FURTHER INFORMATION CONTACT: Barbara Davis, Office of Information Management, 202-267-2326, for questions on this document; Dorothy Walker, Chief, Documentary Services Division, U.S. Department of Transportation, 202-366-9330, for questions on the docket.

SUPPLEMENTARY INFORMATION:

Regulatory History

This request constitutes the 30-day notice required by OMB. The Coast Guard has already published [65 FR 20508 (April 17, 2000)] the 60-day notice required by OMB. That request elicited no comments.

Request for Comments

The Coast Guard invites comments on the proposed collections of information to determine whether the collections are necessary for the proper performance of the functions of the Department. In particular, the Coast Guard would appreciate comments addressing: (1) The practical utility of the collections; (2) the accuracy of the Department's estimated burden of the collections; (3) ways to enhance the quality, utility, and clarity of the information that is the subject of the collections; and (4) ways to minimize the burden of collections on respondents, including the use of automated collection techniques or other forms of information technology.

Comments, to DMS or OIRA, must contain the OMB Control Numbers of all ICRs addressed. Comments to DMS must contain the docket number of this request, USCG 2000-7221. Comments to OIRA are best assured of having their full effect if OIRA receives them 30 or fewer days after the publication of this request.

Information Collection Requests

1. Title: Small Passenger Vessels—46 CFR subchapters K and T.

OMB Control Number: 2115-0578.

Type of Request: Extension of currently approved collection.

Affected Public: Owners and operators of small passenger vessels.

Form(s): CG-841, CG-854, CG-948, CG-949, CG-3752, CG-5256.

Abstract: The reporting and recordkeeping requirements are necessary for the proper administration and enforcement of the program on safety of commercial vessels as it affects small passenger vessels. The requirements affect small passenger vessels (under 100 gross tons) that carry more than 6 passengers.

Annual Estimated Burden Hours: The estimated burden is 436,173 hours a year.

2. Title: Offshore Supply Vessels—46 CFR Subchapter L.

OMB Control Number: 2115-0592.

Type of Request: Revision of a currently approved collection.

Affected Public: Owners and operators of vessels.

Forms: N/A.

Abstract: The requirements for posting and marking aboard OSVs are necessary to instruct those aboard of what to do in an emergency. The recordkeeping requirements verify compliance with regulations without CG presence to witness routine matters.

Annual Estimated Burden Hours: The estimated burden is 5,931 hours a year.

Frequency: On occasion.

3. Title: Customer Satisfaction Survey.

OMB Control Number: 2115-0625.

Type of Request: Extension of currently approved collection.

Affected Public: Recreational boaters, commercial mariners, industry groups, State and local governments.

Form(s): N/A.

Abstract: Putting people first means ensuring that the Federal Government provides the highest-quality service possible to the American people. Executive Order 12862 requires that all executive departments and agencies providing significant services directly to the public seek to meet established standards of customer service and—

• Identify the customers who are, or should be, served by the agency; and

• Survey customers to determine the kind and quality of services they want and their level of satisfaction with existing services.

4. Title: Nondestructive Testing of Certain Cargo Tanks on Unmanned Barges.

OMB Control Number: 2115-0563.

Type of Request: Extension of currently approved collection.

Affected Public: Owners of tank barges.

Form(s): N/A.

Abstract: The Coast Guard uses the results of nondestructive testing to evaluate the suitability of older pressure-vessel-type cargo tanks of unmanned barges to remain in service. Once every ten years it subjects such a tank, on an unmanned barge, 30 years old or older to nondestructive testing.

Annual Estimated Burden Hours: The estimated burden is 84.5 hours a year.

5. Title: Station Bills for Manned Outer Continental Shelf Facilities.

OMB Control Number: 2115-0542.

Type of Request: Extension of currently approved collection.

Affected Public: Operators of facilities on the Outer Continental Shelf (OCS).

Form(s): N/A.

Abstract: Station Bills aboard manned facilities on the OCS are necessary to promote safety of life on these facilities. They are an efficient means for disseminating information to all persons on these facilities regarding their duties, duty stations, and signals used during emergencies and drills.

Annual Estimated Burden Hours: The estimated burden is 526 hours a year.

6. Title: Display of Fire Control Plans for Vessels.

OMB Control Number: 2115-0135.

Type of Request: Extension of currently approved collection.

Affected Public: Owners and Operators of vessels.

Form(s): N/A.

Abstract: This information collection is for the posting or display of specific plans on certain categories of commercial vessels. The availability of these plans aids firefighters and damage-control efforts in response to emergencies.

Annual Estimated Burden Hours: The estimated burden is 798 hours a year.

7. Title: Standards of Training, Certification and Watchkeeping for Seafarers (STCW), 1995 Amendments.

OMB Control Number: 2115-0624.

Type of Request: Extension of currently approved collection.

Affected Public: Owners and operators of vessels, training institutions, and mariners.

Form(s): N/A.

Abstract: This information is necessary to ensure compliance with the international requirements of the STCW Convention, and to maintain an acceptable level of quality in activities associated with training and assessment of merchant mariners.

Annual Estimated Burden Hours: The estimated burden is 18,331 hours a year.

8. Title: Plan Approval and Records for Foreign Vessels Carrying Oil in Bulk.

OMB Control Number: 2115-0106.

Type of Request: Extension of currently approved collection.

Affected Public: Owners and operators of vessels.

Form(s): N/A.

Abstract: The Coast Guard reviews plans and records to determine whether foreign tank vessels comply with applicable standards of design and construction.

Annual Estimated Burden Hours: The estimated burden is 65 hours a year.

Dated: July 20, 2000.
Daniel F. Sheehan,
Director of Information and Technology.

[FR Doc. 00-19218 Filed 7-28-00; 8:45 am]

BILLING CODE 4910-15-U